DEPARTMENT OF TRANSPORTATION

National Highway Traffic Safety Administration

[Docket No. NHTSA-2003-14229; Notice 2]

Kawasaki Motors Corporation, U.S.A.; Grant of Application for Decision of Inconsequential Noncompliance

Kawasaki Motors Corporation U.S.A. of Irvine, California (KMC) has determined that some 2002 and 2003 model year Kawasaki motorcycles produced for sale in the U.S. fail to comply with a requirement in Federal Motor Vehicle Safety Standard (FMVSS) No. 123, “Motorcycle Controls and Displays”. The motorcycles in question have ignition switches that are not labeled with the word “ignition”. Pursuant to 49 U.S.C. 30118(d) and 30120(h), KMC has petitioned for a determination that this noncompliance is inconsequential to motor vehicle safety and has filed an appropriate report pursuant to 49 CFR part 573, “Defect and Noncompliance Reports”.

Notice of receipt of the application was published, with a 30-day comment period, on February 3, 2003, in the Federal Register (67 FR 72026). NHTSA received no comment on this application.

Federal Motor Vehicle Safety Standard No. 123 standardizes motorcycle controls to minimize the risk of crashes resulting from operator errors in the use of controls. In FMVSS No. 123, paragraph S5.2.3 specifies that the ignition shall be labeled with the word “ignition” as well as the word “off” at the appropriate ignition switch position. Proper labeling of the ignition helps to ensure that a rider who needs to quickly turn off a motorcycle for safety reasons will be able to locate, identify, and operate the ignition control.

Kawasaki Motors Corporation described the operation of the motorcycles with the noncompliance as follows:

The ignition switch is located in a pod positioned immediately in front of the operator, just ahead of the fuel filler opening on the top of the fuel tank. The switch is operated by an ignition key and has three positions, sequentially in a clockwise direction: “off” where the ignition is disabled; “on” where the ignition is enabled; and “park” where the ignition is disabled but minimal lighting functions are enabled. These ignition switch positions are labeled on a metal plate that surrounds the ignition switch and which also contains the turn signal indicator lamps, neutral and high beam indicators. Unlike standard automotive practice, the ignition switch does not operate the starter motor—the starter button is located on the handlebar. Starting the motorcycle involves insertion of the key into the switch and turning the ignition to the “on” position, then operating the separate starter button. An operator would not be able to start the engine inadvertently by using only the ignition switch.

Kawasaki Motors Corporation stated the following in support of its application for inconsequential noncompliance:

No safety consequences attach to the omission of the “ignition” identification for the switch. Operators are familiar with the function and location of the ignition switch as well as the use of the ignition key to operate the switch. The location of the switch, in combination with frequently referenced displays such as turn signal, neutral, and high beam indicators means that the operator is quite familiar with the switch and its location, and experiences no adverse consequences from the lack of “ignition” identification for the switch. In fact, an operator unable to identify the ignition switch, due to the lack of labeling, would be unable to start or operate the motorcycle in the first place.

The other ignition switch labeling, i.e., the word “off” at the appropriate switch position, is present as required, and the remainder of the vehicle controls and displays comply with the requirements of FMVSS No. 123.

In their application, KMC stated that it is unaware of any accidents, injuries, owner complaints or field reports for the subject vehicles vis-à-vis this noncompliance, and has received no communications of any kind from owners, dealers, or anyone else indicating any awareness of the missing label.

After reviewing KMC's application, NHTSA concludes that the noncompliance of KMC with respect to FMVSS No. 123 does not constitute a consequential vehicle safety concern. Motorcycles, including the non-complying Kawasaki motorcycles, are equipped with an engine kill switch located on the right handlebar where it is within reach of the rider's right hand. A motorcycle operator confronted with the need to quickly shut off the engine can do so without moving his hand from the handgrip. By using the kill switch, there is no need for the operator to locate the ignition switch. As a result, the missing label on the ignition switch should not prevent immediate engine shut-down.

Accordingly, KMC's application is granted and the applicant is exempted from providing the notification of the noncompliance as required by 49 U.S.C. 30118, and from remedying the noncompliance as required by 49 U.S.C. 30120.

(49 U.S.C. 30118, 30120; delegations of authority at 49 CFR 1.50 and 501.8)

Issued on: August 15, 2003.
Stephen R. Kratzke,
Associate Administrator for Rulemaking.

[FR Doc. 03-22041 Filed 8-27-03; 8:45 am]

BILLING CODE 4910-59-M